DEPARTMENT OF TRANSPORTATION

Federal Aviation Administration

14 CFR Part 71

[Docket No. FAA-2023-0786; Airspace Docket No. 22-AWP-77]

RIN 2120-AA66

Modification of Class D and E Airspace; McClellan-Palomar Airport, Carlsbad, CA

AGENCY: Federal Aviation Administration (FAA), DOT.

ACTION: Final rule.

SUMMARY: This action modifies the Class D and Class E airspace designated as a surface area at McClellan-Palomar Airport, Carlsbad, CA. Additionally, this action makes administrative modifications to update the airport's existing Class D and Class E airspace legal descriptions. These actions will support the safety and management of instrument flight rules (IFR) and visual flight rules (VFR) operations at the airport.

DATES: Effective 0901 UTC, September 5, 2024. The Director of the Federal Register approves this incorporation by reference under Title 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Drasin, Federal Aviation Administration, Western Service Center, Operations Support Group, 2200 S 216th Street, Des Moines, WA 98198; telephone (206) 231-2248.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class D and Class E airspace to support IFR and VFR operations at McClellan-Palomar Airport, Carlsbad, CA.

History

The FAA published a notice of proposed rulemaking for Docket No. FAA-2023-0786 in the Federal Register (89 FR 14788; February 29, 2024), proposing to modify the Class D and Class E airspace designated as a surface area at McClellan-Palomar Airport, Carlsbad, CA. Interested parties were invited to participate in this rulemaking effort by submitting written comments on the proposal to the FAA. Two comments were received, one of which supported the proposal, while the other raised some concerns that pertained to land use and traffic pattern altitudes.

The McClellan-Palomar Airport's (CRQ) airspace was reviewed as part of FAA's Class D biennial evaluation program. This review concluded: not all instrument flight procedures are fully contained within the existing Class D and E4 airspace; the northwest E4 extension's width can be reduced; and administrative changes are needed. The proposed Class D and E4 modifications are designed to contain the existing instrument flight procedures; therefore, no changes to aircraft operations will occur and there will be no impacts to land use. The requests to change the traffic pattern altitude and to upgrade and modernize the tower made in the dissenting comment are outside the scope of the project to update the airspace. Any requests to change the pattern altitude need to be addressed to the airport.

Subsequent to publication of the NPRM in the Federal Register, the FAA identified a discrepancy with the proposed Class E2 legal description. The airport name is removed from the description, as it is in the second line of the header and duplication is not necessary.

Incorporation by Reference

Class D and Class E4 airspace designations are published in paragraphs 5000 and 6004, respectively, of FAA Order JO 7400.11, Airspace Designations and Reporting Points, which is incorporated by reference in 14 CFR 71.1 on an annual basis. This document amends the current version of that order, FAA Order JO 7400.11H, dated August 11, 2023, and effective September 15, 2023. FAA Order JO 7400.11 is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the Class D and Class E airspace designated as a surface area at McClellan-Palomar Airport, Carlsbad, CA.

The Class D airspace boundary should normally be based on the airport reference point (ARP) of the primary airport via FAA JO 7400.2, therefore all references to navigational aids are changed to ARP. The Class D surface area comprising a 3-mile radius around the airport, is modified to include a small extension centered on the airport's 259° bearing extending 0.3 miles beyond the existing radius to better contain arriving IFR operations below 1,000 feet above the surface on the Area Navigation (RNAV) (Global Positioning System [GPS]) Y Runway (RWY) 6 and RNAV (Required Navigation Performance [RNP]) Z RWY 6 approach procedures.

The Class E surface area extension east of the airport is realigned from the Palomar RWY 24 localizer east course to the 079° bearing from the airport and lengthened 0.2 miles to better contain arriving IFR operations below 1,000 feet above the surface on the RNAV (GPS) Y RWY 24 approach. The Class E surface area extension northwest of the airport is excessive and is realigned from the Oceanside (OCN) 134° radial to the 313° bearing from the airport and reduced from a width of 3.6 miles to 2.6 miles and a length of 4.5 miles reduced from 5.8 miles.

Finally, this action modifies the airport's legal descriptions. The airport name on line two of the text headers in both legal descriptions should be updated from, “Carlsbad, McClellan-Palomar Airport, CA” to “McClellan-Palomar Airport, CA”, to comply with FAA Order 7400.2. The geographic coordinates located on line three of the text headers should be updated to match the FAA's database, and both legal descriptions should be updated to replace the outdated use of the phrases “Notice to Airmen” and “Airport/Facility Directory.” These phrases should read “Notice to Air Missions” and “Chart Supplement,” respectively, to align with the FAA's current nomenclature.

Regulatory Notices and Analyses

The FAA has determined that this regulation only involves an established body of technical regulations for which frequent and routine amendments are necessary to keep them operationally current. Additionally, it is non-controversial, and unlikely to result in adverse or negative comments. It, therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 5000 Class D Airspace.

* * * * *

AWP CA D Carlsbad, CA [Amended]

McClellan-Palomar Airport, CA

(Lat. 33°07′42″ N, long. 117°16′48″ W)

That airspace extending upward from the surface to and including 2,800 feet MSL within a 3-mile radius of McClellan-Palomar Airport, and 1 mile each side of the airport's 259° bearing extending from the 3-mile radius to 3.3 miles west of the airport. This Class D airspace area is effective during the specific dates and times established in advance by a Notice to Air Missions. The effective date and time will thereafter be continuously published in the Chart Supplement.

* * * * *

Paragraph 6004 Class E Airspace Areas Designated as an Extension to a Class D or Class E Surface Area.

* * * * *

AWP CA E4 Carlsbad, CA [Amended]

McClellan-Palomar Airport, CA

(Lat. 33°07′42″ N, long. 117°16′48″ W)

That airspace extending upward from the surface within 1.8 miles each side of the airport's 079° bearing extending from the 3-mile radius to 6.7 miles east of the airport, and within 1.3 miles each side of the airport's 313° bearing extending from the 3-mile radius to 4.5 miles northwest of the airport. This Class E airspace area is effective during the specific dates and times established in advance by a Notice to Air Missions. The effective date and time will thereafter be continuously published in the Chart Supplement.

* * * * *

Issued in Des Moines, Washington, on May 17, 2024.
B.G. Chew,
Group Manager, Operations Support Group Western Service Center.

[FR Doc. 2024-11296 Filed 5-23-24; 8:45 am]

BILLING CODE 4910-13-P